NUCLEAR REGULATORY COMMISSION

Advisory Committee on Reactor Safeguards Subcommittee Meeting on Thermal-Hydraulic Phenomena; Notice of Meeting

The ACRS Subcommittee on Thermal-Hydraulic Phenomena will hold a meeting on July 17-18, 2001, at Oregon State University, Richardson Hall, Room 313, Jefferson Way, Corvallis, Oregon.

The agenda for the subject meeting shall be as follows:

Tuesday, July 17-18, 2001—8:30 a.m. until the conclusion of business

The Subcommittee will discuss (1) the NRC Office of Nuclear Regulatory Research (RES) experimental program at the APEX-CE facility pertaining to thermal-hydraulic phenomena associated with Pressurized Thermal Shock (PTS) in support of the NRC PTS Rule Reevaluation Program; and, (2) the RES program investigating phase separation phenomena in support of model upgrades for the RES TRAC-M and RELAP5 codes. The purpose of this meeting is to gather information, analyze relevant issues and facts, and to formulate proposed positions and actions, as appropriate, for deliberation by the full Committee.

Oral statements may be presented by members of the public with the concurrence of the Subcommittee Chairman. Written statements will be accepted and made available to the Committee. Electronic recordings will be permitted only during those portions of the meeting that are open to the public, and questions may be asked only by members of the Subcommittee, its consultants, and staff. Persons desiring to make oral statements should notify the cognizant ACRS staff engineer named below five days prior to the meeting, if possible, so that appropriate arrangements can be made.

During the initial portion of the meeting, the Subcommittee, along with any of its consultants who may be present, may exchange preliminary views regarding matters to be considered during the balance of the meeting.

Further information regarding topics to be discussed, whether the meeting has been canceled or rescheduled, and the Chairman's ruling on requests for the opportunity to present oral statements and the time allotted therefor, can be obtained by contacting the cognizant ACRS staff engineer, Mr. Paul A. Boehnert (telephone 301-415-8065) between 7:30 a.m. and 5:00 p.m. (EDT). Persons planning to attend this meeting are urged to contact the above named individual one or two working days prior to the meeting to be advised of any potential changes to the agenda, etc., that may have occurred.

Dated: June 28, 2001.
Sam Duraiswamy,
Acting Associate Director for Technical Support.

[FR Doc. 01-16917 Filed 7-5-01; 8:45 am]

BILLING CODE 7590-01-P